FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Advanced Logistics, Inc. (NVO), 3301 NW 97th Avenue, Doral, FL 33172, Officers: Jose R. Castillo-Ospina, President (QI), Ricardo Castillo, Vice President, Application Type: QI Change.

All States Van Lines LLC (NVO & OFF), 340 South Stiles Street, Linden, NJ 07036, Officers: Vita Shteyn, Member (QI), Don Shteyn, Managing Member, Application Type: Name Change to Inter Movers LLC.

Aztec Marine Agencies, Inc. dba Beaumont Logistics Group (OFF), 1485 Wellington Circle, Suite 101, Beaumont, TX 77706, Officers: Rosemary Asta, President (QI), Christopher Asta, Vice President, Application Type: Change Trade Name to Acceleron Logistics LLC.

B&F International, Inc. (NVO), 18005 Savarona Way, Carson, CA 90746, Officers: Frank Noah, Vice Chairman (QI), Bong Cheon Kim, Vice Chairman, Application Type: New NVO License.

Biel & Co. South Carolina LLC dba Cutlass Logistics Ltd (OFF), 1064 Gardner Road, Suite 312, Charleston, SC 29407, Officers: Dennis J. Forsberg, Vice President-Liner Sales (QI), Thomas J. Springer, President, Application Type: New OFF License.

Brilliant Globe Logistics Inc. (NVO), 159 N. Central Avenue, 2nd Floor, Valley Stream, NY 11580, Officers: Xudong Wang, Vice President (QI), Shuping Wang, President, Application Type: Transfer to Brilliant Group Logistics Corp.

CargoLive Worldwide Logistics, LLC (NVO & OFF), 2025 East Linden Avenue, Linden, NJ 07036, Officers: Frank Conenna, LLC Manager (QI), Stephen M. Mattessich, LLC Manager, Application Type: New NVO & OFF License.

Carlo Shipping International, Inc. (NVO & OFF), 435 Division Street, Elizabeth, NJ 07201, Officer: Carlos E. Feliu, President (QI), Application Type: Add Trade Name CSI Logistics.

CMA CGM Logistics USA LLC (NVO & OFF), 1 Meadowlands Plaza, Suite 201, East Rutherford, NJ 07073, Officers: Amish B. Shah, Director of Sea Freight (QI), Nicalaos Fafoutis, Chief Compliance Officer, Application Type: Additional QI.

Conrad E. Lim dba Allied Cargo Services (NVO), 26203 Production Avenue, Suite #2, Hayward, CA 94544, Officer: Conrad E. Lim, Sole Proprietor (QI), Application Type: New NVO License.

DCI Transport LLC (OFF), 2635 Northgate Avenue, Suite A, Cumming, GA 30041, Officers: Christie Patterson, Manager (QI), Christopher W. Purdy, Chief Executive Manager, Application Type: New OFF License.

Direct Parcel Service, Corp. dba DPS Cargo (NVO), 7701 NW 46th Street, Doral, FL 33166, Officers: Edward Recio, Secretary (QI), Veronica Morales, President, Application Type: Additional QI.

Dynamic Multimodal System, Inc. (NVO), 2050 W 190th Street, Suite 105, Torrance, CA 90504, Officer: John Kamischke, President (QI), Application Type: New NVO License.

Farenco Logistics, Inc. (NVO), 190 Lincoln Highway, Suite 303, Edison, NJ 08820, Officers: Lena Yu, President (QI), Vania Wang, Treasurer, Application Type: New NVO License.

FedEx Trade Networks Transport & Brokerage, Inc. (NVO & OFF), 128 Dearborn Street, Buffalo, NY 14207, Officers: Joseph L. Trulik, Jr., Assistant Secretary (QI), James R. Muhs, President, Application Type: QI Change.

GTS Logistics Inc (NVO), 7603 Penrose Court, Sugar Land, TX 77479, Officer: Zulfikar Momin, President (QI), Application Type: New NVO License.

Herco Freight Forwarders, Inc. (NVO & OFF), 7700 NW 81st Place, Suite 1, Medley, FL 33166, Officers: Romulo Souza, Secretary (QI), Kesia Pompeu, President, Application Type: New NVO & OFF License.

integrated freight systems LLC (OFF), 626 Calloway Drive, Sugar Land, TX 77479, Officers: Markus C. Armstrong, President (QI), Lauren M. Gayle, Secretary, Application Type: New OFF License.

JJSOL, LLC (NVO & OFF), 2233 Peachtree Road NE., Unit 705, Atlanta, GA 30309, Officers: James Burghart, Member (QI), Jyoti Solanki, Member, Application Type: New NVO & OFF License.

KTL USA, LLC dba Daimon Logistics USA (NVO), 17 Hilliard Avenue, Edgewater, NJ 07020, Officers: Serhat Ozisik, Member (QI), Ahmet Neidik, Member, Application Type: QI Change.

Matthew's Auto Transportation LLC (NVO & OFF), 16 Guenever Drive, New Castle, DE 19720, Officer: Carlos E. Valdiviezo, Member (QI), Application Type: New NVO & OFF License.

Mirach Shipping, Inc. dba Marlin Shipping (NVO & OFF), 1162 Hasting Place, Baldwin, NY 11510, Officer: Kamran Ali, President (QI), Application Type: New NVO & OFF License.

Movage, Inc. dba Movage International (NVO), 135 Lincoln Avenue, Bronx, NY 10454, Officers: Bajo Vujovic, President (QI), Traveler J. Schinz-Devico, Vice President, Application Type: QI Change.

New Life Health Care Services, LLC. dba New Life Marine Services (NVO & OFF), 3527 Brackenfern Road, Katy, TX 77449, Officers: Henry C. Onyekwere, Member (QI), Theresa Onyekwere, Office Manager, Application Type: Add OFF Service.

New York 1 Terminal, Inc. (OFF), 180 Pulaski Street, Bayonne, NJ 07002, Officers: Joel Bonhommette, President (QI), Sonia Bonhommette, Secretary, Application Type: New OFF License.

Norse Freight Forwarding, LLC (NVO), 125 Commerce Drive, Suite A, Fayetteville, GA 30214, Officers: Johnny S. Flaten, Managing Member (QI), Robert S. Stamey, Member, Application Type: Add Trade Name Norse Container Lines, LLC.

OCC Maritime, Inc dba OCC Lloyd (NVO & OFF), 232 Andalusia Avenue, Suite 370, Coral Gables, FL 33134, Officers: Oliver Oswald, President (QI), Isabel Jimenez, Secretary, Application Type: QI Change.

Premier Van Lines International, Inc. (NVO & OFF), 2509 S. Power Road, Suite 207, Mesa, AZ 85209, Officers: James A. Haddon, President (QI), Heidi E. Lomax, Vice President, Application Type: Add OFF Service.

Propelling Trade Solutions Inc. (OFF), 873 Featherwood Drive, Diamond Bar, CA 91765, Officer: Howard S. Chang, President (QI), Application Type: New OFF License.

RH Shipping & Chartering (USA), LLC (NVO & OFF), 10077 Grogans Mill Road, Suite 310, The Woodlands, TX 77380, Officer: Rudolf Hess, Manager (QI), Application Type: New NVO & OFF License.

Savant International Logistics Ltd. (NVO), 11 Broadway, Suite 1063, New York, NY 10004, Officer: Leonard Satz, President (QI), Application Type: Transfer to Savant Customs Brokers and, Freight Forwarders.

SDK Forwarding Co. (OFF), 17795 Hickory Trail, Lakeville, MN 55044, Officer: Sandra D. Kimal, CEO (QI), Application Type: New OFF License.

Siboney Shipping, LLC (NVO), 8401 NW 90th Street, Medley, FL 33166, Officers: Derrick I. Sealy, Managing Member (QI), Kaye Graham, Managing Member, Application Type: New NVO License.

Stars International LLC (OFF), 80 Blauvelt Street, Teaneck, NJ 07666, Officers: Armand Arbolante, Manager (QI), Stellar Tung, Owner, Application Type: New OFF License.

Sunflower Worldwide Trading dba Pacific Cargo Express (NVO), 300 W. Valley Blvd., Suite G168, Alhambra, CA 91803, Officers: Karen Cheng, Secretary (QI), Chris Cheng, President, Application Type: New NVO License.

Thomas Griffin International, Inc. dba Sea Lion Ocean Freight, dba RV Shipping (NVO), 15903 Kent Ct., Tampa, FL 33647, Officer: Thomas L. Griffin, President (QI), Application Type: Add OFF Service.

TRD International, Inc. (NVO & OFF), 321 East Gardena Blvd., 2nd Floor, Gardena, CA 90248, Officers: Wonchol Yi, CEO (QI), David Lee, COO, Application Type: New NVO & OFF License.

Triton Overseas Transport, Inc. (NVO & OFF), 3340 Greens Road Building A, Suite 410, Houston, TX 77032, Officer: William R. Onorato, President (QI), Application Type: Name Change to Triton Global, Inc. & Add OFF Service.

Unimex Trade & Logistics, L.L.C. (NVO & OFF), 12014 Sara Road, Laredo, TX 78045, Officers: Cynthia Mata, Vice President-NVOCC Operations (QI), Adolfo Campero, President, Application Type: New NVO & OFF License.

V R Logistics Incorporated dba Yellow Shark Logistics (NVO & OFF), 30 Sheryl Drive, Edison, NJ 08820, Officers: Viren Bhagat, Secretary (QI), Vanita Bhagat, President, Application Type: Additional QI.

Victoria Project Cargo, LLC (NVO & OFF), 507 N. Sam Houston Parkway East, Suite 320, Houston, TX 77060, Officers: Tatiana Stanina, President (QI), Radek Maly, Treasurer, Application Type: New NVO & OFF License.

Whale Logistics (USA), Inc. (NVO), 10622 Tammy Street, Cypress, CA 90630, Officer: Jason Hsu, President (QI), Application Type: New NVO License.

Wil Shipping LLC (NVO & OFF), 18501 Pines Blvd., Suite 363, Pembroke Pines, FL 33029, Officer: Chadi Karam, Manager (QI), Application Type: New NVO & OFF License.

Woori Shipping, Inc. dba Hyundae Global Express (NVO & OFF), 3022 S. Western Avenue, Los Angeles, CA 90018, Officers: Mysungsu Kim, Vice President (QI), Youngmin Kim, President, Application Type: New NVO & OFF License.

World Trade Shipping & Logistics Inc. (NVO & OFF), 8012 NW 29th Street, Miami, FL 33122, Officers: Mario R. Palacios, President (QI), Application Type: New NVO & OFF License.

Worldwide Export International, Corp. (NVO), 450 W. 28th Street, Bay 2, Hialeah, FL 33010, Officers: Maria I. Garrido, President (QI), Isbel Montano, Vice President, Application Type: New NVO License.

Dated: March 28, 2014.
By the Commission.
Rachel E. Dickon,
Assistant Secretary.

[FR Doc. 2014-07396 Filed 4-2-14; 8:45 am]

BILLING CODE 6730-01-P